DEPARTMENT OF THE INTERIOR

Bureau of Land Management

[NV-056-5853-EU; NVN-78190, 7-08807]

Notice of Realty Action: Competitive Sale of Public Lands in Clark County, NV

AGENCY: Bureau of Land Management, Interior.

ACTION: Notice of realty action.

SUMMARY: The Bureau of Land Management (BLM) proposes to offer for sale by public auction 31 parcels of Federal public land totaling approximately 167.5 acres in the Las Vegas Valley, Nevada. The sale will be conducted under the authority of the Southern Nevada Public Land Management Act of 1998 (SNPLMA), 112 Stat. 2343, as amended. The SNPLMA sale will be subject to the applicable provisions of Sections 203 and 209 of the Federal Land Policy and Management Act of 1976 (FLPMA), 43 U.S.C. 1713 and 1719, respectively, and BLM land sale and mineral conveyance regulations at 43 CFR Parts 2710 and 2720.

DATES: Comments regarding the proposed SNPLMA sale and Environmental Assessment (EA) (NV-2007-201 must be received by BLM on or before October 5, 2007. Sealed bids must be received no later than 4:30 p.m. PDT, October 26, 2007, at the address of the Las Vegas Field Office (LVFO) listed below. The sale by public auction will begin at 10 a.m., PDT, November 1, 2007.

ADDRESSES: Written comments regarding the proposed sale may be submitted to BLM at the following address: Manager, Las Vegas Field Office, Bureau of Land Management, 4701 N. Torrey Pines Drive, Las Vegas, Nevada 89130.

The address for oral bidding registration and the location of the public auction is: Clark County Commission Chambers, 500 S. Grand Central Parkway, Las Vegas, Nevada.

FOR FURTHER INFORMATION CONTACT: You may contact the LVFO at (702) 515-5000 and ask to have your call directed to a member of the sales team. For general information on BLM's public land sale procedures, refer to the following Web address: http://www.blm.gov/nhp/what/lands/realty/sales.htm.

SUPPLEMENTARY INFORMATION: This public sale is in conformance with the Las Vegas Resource Management Plan, approved on October 5, 1998. BLM has determined that the proposed action conforms to land use plan decision LD-1 under the authority of FLPMA.

The public lands would be offered for sale competitively on November 1, 2007, at an oral auction for not less than the appraised fair market value (FMV) for each parcel. The parcels described below would be auctioned under the terms and conditions of this Notice of Realty Action (NORA).

Mount Diablo Meridian, Nevada

T. 19 S., R. 59 E., sec. 3, E½NW¼SW¼SW¼, W½SE¼SW¼SW¼, W½NW¼SE¼SW¼, E½SW¼SE¼SW¼; sec. 25, NE¼NE¼SW¼.

T. 19 S., R. 60 E., sec. 30, lot 22.

T. 22 S., R 60 E., sec. 13, SE¼NE¼SE¼NE¼, NE¼SE¼SE¼NE¼; sec. 14, NW¼SW¼NW¼SW¼; sec. 15, NE¼SW¼SW¼NE¼, NW¼SW¼SW¼NE¼, SW¼SW¼SW¼NE¼, SE¼SW¼SW¼NE¼; sec. 19, N½SW¼NE¼SW¼NE¼; sec. 24, S½SW¼NW¼SE¼NE¼; sec 27, NW¼NE¼SW¼NE¼, NW¼NW¼SW¼NE¼.

T. 22 S., R. 61 E., sec. 33, SW¼NW¼SW¼NE¼, SW¼SW¼SW¼NE¼, SE¼SW¼SW¼NE¼, NE¼NE¼NW¼SE¼, SW¼NE¼NW¼SE¼, NE¼NW¼NW¼SE¼, SW¼NW¼NW¼SE¼, SE¼NW¼NW¼SE¼, NE¼SW¼NW¼SE¼.

T. 23 S., R. 61 E., Sec. 10, S½SW¼NE¼SW¼, SE¼NE¼SW¼, S½NE¼NW¼SE¼, S½NW¼NW¼SE¼, S½NE¼SE¼SW¼, S½NE¼SW¼SE¼, NW¼SW¼SE¼, N½SW¼SW¼SE¼, S½SW¼SW¼NW¼, SE¼SW¼NW¼, SW¼SE¼NW¼, N½SW¼SE¼SW¼, S½SE¼SE¼SW¼.

Consisting of 31 parcels containing approximately 167.5 acres in Clark County.

Maps delineating the individual proposed sale parcels and current appraisals for each parcel are available for public review at the LVFO, and online at: http://www.propertydisposal.gsa.gov.

In addition to the lands described herein, other parcels that have been previously noticed for sale, but did not sell, may be offered at this sale.

Terms and Conditions

Minerals for each parcel would be reserved in accordance with BLM's approved Mineral Potential Report dated January 22, 1999. Information pertaining to the reservation of minerals is specific to each parcel. That is, some will be reserved and some will be conveyed. This information is located in the case file and available for public review by visiting the BLM LVFO.

For those parcels for which the minerals will be conveyed, an offer to purchase these listed parcels would constitute an application for mineral conveyance. In conjunction with the final payment, an applicant for “no known value” mineral parcels would be required to pay a $50 non-refundable filing fee for processing the conveyance of the “no known value” mineral interests which will be sold simultaneously with the surface interests.

Registration for oral bidding for those who have not pre-registered would begin at 8 a.m., PDT, November 1, 2007, and end at 10 a.m., PDT. Other deadline dates for the receipt of payments, and arranging for certain payments to be made by electronic transfer, are specified in the proposed terms and conditions of sale.

The following numbered terms and conditions would appear on the conveyance documents for these parcels, as follows:

1. All parcels described above will have discretionary leasable and saleable mineral deposits on the lands in Clark County, if any, reserved to the United States, in accordance with BLM's approved Mineral Potential Report, dated January 22, 1999. Permittees, licensees, and lessees of the United States retain the right to prospect for, mine, and remove such leasable and saleable minerals owned by the United States under applicable law and any regulations that the Secretary of the Interior may prescribe, together with all necessary access and exit rights.

2. A right-of-way is reserved for ditches and canals constructed by authority of the United States under the Act of August 30, 1890 (43 U.S.C. 945).

3. All parcels are subject to valid existing rights.

4. All purchasers/patentees, by accepting a patent, covenant and agree to indemnify, defend, and hold the United States harmless from any costs, damages, claims, causes of action, penalties, fines, liabilities, and judgments of any kind or nature arising from the past, present, and future acts or omissions of the patentees or their employees, agents, contractors, or lessees, or any third party, arising out of or in connection with the patentees' use, occupancy, or operations on the patented real property. This indemnification and hold harmless agreement includes, but is not limited to, acts and omissions of the patentees and their employees, agents, contractors, or lessees, or any third party, arising out of or in connection with the use and/or occupancy of the patented real property which has already resulted or does hereafter result in: (1) Violations of Federal, State, and local laws and regulations that are now or may in the future become, applicable to the real property; (2) Judgments, claims or demands of any kind assessed against the United States; (3) Costs, expenses, or damages of any kind incurred by the United States; (4) Releases or threatened releases of solid or hazardous waste(s) and/or hazardous substances(s), as defined by Federal or State environmental laws, off, on, into or under land, property and other interests of the United States; (5) Activities by which solid waste or hazardous substances or waste, as defined by Federal and State environmental laws are generated, released, stored, used or otherwise disposed of on the patented real property, and any cleanup response, remedial action or other actions related in any manner to said solid or hazardous substances or wastes; or (6) Natural resource damages as defined by Federal and State law. This covenant shall be construed as running with the parcels of land patented or otherwise conveyed by the United States, and may be enforced by the United States in a court of competent jurisdiction.

5. Pursuant to the requirements established by section 120(h) of the Comprehensive Environmental Response, Compensation and Liability Act, 42 U.S.C. 9620(h) (CERCLA), as amended by the Superfund Amendments and Reauthorization Act of 1988, 100 Stat. 1670, notice is hereby given that the above-described lands have been examined and no evidence was found to indicate that any hazardous substances have been stored for one year or more, nor had any hazardous substances been disposed of or released on the subject property.

Parcels may also be subject to applications received prior to publication of this NORA if processing the application would have no adverse affect on the marketability or the federally approved FMV of a parcel. Encumbrances that may appear on the BLM public files for the parcels proposed for sale are available for review during business hours, 7:30 a.m. PDT to 4:30 p.m. PDT, Monday through Friday, at the BLM LVFO.

Pursuant to 43 CFR 2800, BLM will notify valid existing rights-of-way holders of their ability to convert their compliant rights-of-way to perpetual rights-of-way or easements. Each valid holder will be notified in writing of their rights and then must apply for the conversion of their current authorization.

All parcels are subject to reservations for roads, public utilities and flood control purposes in accordance with the local governing entities' transportation plans.

No representation, warranty, or covenant of any kind, express or implied, is given or made by the United States as to title, whether or to what extent the land may be developed, its physical condition, future uses, or any other circumstance or condition. The conveyance of any parcel will not be on a contingency basis. However, to the extent required by law, all parcels are subject to the requirements of section 120(h) of the CERCLA.

Sealed bids under 43 CFR 2711.3-1(c) may be submitted for any parcel. Sealed bids must be received at the BLM LVFO no later than 4:30 p.m., PDT, October 26, 2007. Sealed bid envelopes must be marked on the lower front left corner with the BLM Serial Number for the parcel and the sale date. Bids must be for not less than the federally approved FMV, and a separate bid must be submitted for each parcel.

As required by 43 CFR 2711.3-1(c), each sealed bid shall be accompanied by a certified check, postal money order, bank draft, or cashier's check made payable in U.S. dollars to the order of the Bureau of Land Management, for not less than 10 percent or more than 30 percent of the amount bid. The highest qualifying sealed bid for each parcel will become the starting bid at the oral auction. If no sealed bids are received, oral bidding will begin at the FMV, as determined by the authorized officer. All sealed bids will be opened and recorded at 2 p.m. PDT on October 30, 2007, at the BLM office on 4701 N. Torrey Pines Drive in Las Vegas.

Interested parties who will not be bidding at the public auction are not required to register and may proceed directly to the Clark County Commission Chambers. If seating becomes limited, bidders will have seating preference.

All oral bidders are required to register. Registration for oral bidding will begin at 8 a.m. PDT on the day of the sale and end at 10 a.m. PDT that day. Bidders are encouraged to pre-register by mail or fax by completing the form located in the sale packet. The form is also available at the BLM LVFO and online at: http://www.auctionrp.com.

Prior to receiving a bidder number on the day of the sale, all registered bidders must submit a certified check, bank draft, postal money order, or cashier's check in the amount of $10,000. This is a bid guarantee. The check must be made payable in U.S. dollars to the order of the Bureau of Land Management. On the day of the sale, pre-registered bidders may go to the express registration desk, present their photo identification and proof of citizenship, the required $10,000 bid guarantee and receive a bidder number. Bidders that have not pre-registered must go to the standard registration line where additional information will be requested including photo identification, proof of citizenship, and the required $10,000 bid guarantee. On completion of registration a bidder number will be assigned.

At auction, the highest qualifying bid for any parcel will be declared the apparent high bid. Under 43 CFR 2711.3-1(d), the apparent high bidder must submit a deposit of not less than 20 percent of the successful bid by 3 p.m. PDT on the day of the sale either in the form of cash (U.S. dollars), a personal check, bank draft, cashier's check, postal money order or any combination thereof, made payable in U.S. dollars to the order of the Bureau of Land Management. The deposit must be delivered no later than 3 p.m. PDT the day of the sale to the BLM collection officers at the Clark County Commission Chambers. Deposits will not be accepted at the BLM LVFO.

Following the auction, all monies submitted with sealed bids and bid guarantees will be returned to the unsuccessful bidders upon presentation of photo identification at the designated area. If the apparent high bidder so chooses, the bid guarantee may be applied to the required deposit. Failure to submit the deposit following the sale under 43 CFR 2711.3-1(d) will result in forfeiture of the bid guarantee. If a bidder offers to purchase more than one parcel and fails to submit the bid deposit following the sale on any single parcel, BLM will retain the bid guarantee and may cancel the sale of all of the parcels for which a bidder is declared the apparent high bidder.

The remainder of the full bid price for each parcel must be paid within 180 calendar days of the competitive sale date, April 30, 2008, in the form of a certified check, postal money order, bank draft, or cashier's check made payable in U.S. dollars to the order of the Bureau of Land Management. Personal checks will not be accepted. Arrangements for electronic fund transfer to BLM for the balance due on or before April 30, 2008, shall be made a minimum of 2 weeks prior to the date you wish to make payment. Failure to pay the full price within the 180 days will disqualify the apparent high bidder and cause the entire 20 percent deposit to be forfeited to the BLM. Forfeiture of the 20 percent deposit is by operation of 43 CFR 2711.3-1(d). No exceptions will be made. BLM cannot accept the full price at any time following the 180th day after the sale.

Within 30 days of the sale, BLM will either accept or reject all bids received. Under 43 CFR 2711.3-1, a bid is the bidder's offer to BLM to purchase the parcel. No contractual or other rights against the United States may accrue until BLM officially accepts the offer to purchase, and the full bid price is submitted by the 180th day following the sale. BLM will mail “High Bidder Declared” letters the day after the sale informing bidders whether their offer to purchase has been accepted or rejected by BLM. All name changes and supporting documentation must be received at BLM by 4:30 p.m. PST, December 3, 2007. Otherwise, the patent will be issued to the name on the bidder statement completed at the sale on November 1, 2007. No name changes will be accepted after 4:30 p.m. PST, December 3, 2007. To change the name, high bidders must notify the BLM LVFO in writing and re-submit a new bidder statement (available at BLM) completed by the intended patentee.

BLM will not sign any documents related to 1031 Exchange transactions. The timing for completion of the exchange is the bidder's responsibility in accordance with Internal Revenue Service regulations. BLM is not a party to any 1031 Exchange.

Requests for BLM escrow instructions must be received by BLM prior to 30 days before the bidder's scheduled closing date. There are no exceptions.

All sales are made in accordance with and subject to the governing provisions of law and applicable regulations. In accordance with 43 CFR 2711.3-1(f), the BLM may accept or reject any or all offers to purchase, or withdraw any parcel of land or interest therein from sale, if, in the opinion of the BLM authorized officer, consummation of the sale would be inconsistent with any law, or for other reasons.

Federal law requires bidders to be U.S. citizens 18 years of age or older; a corporation subject to the laws of any State or of the United States; a State, State Instrumentality or political subdivision authorized to hold property or an entity legally capable of conveying lands or interests therein under the laws of the State of Nevada. Registered bidders must provide to BLM, on the day of the sale, proof of citizenship, or proof of current corporate or partnership status in good standing filed within the United States. Citizenship is evidenced by presenting a birth certificate, passport, or immigration/naturalization papers. Failure to submit the above requested documents will result in denial of registration.

If not sold, any parcel described above in this NORA may be identified for sale at a later date without further legal notice. Unsold parcels may be offered for sale in a future online Internet auction. Internet auction procedures will be available at http://www.auctionrp.com. If unsold on the Internet, parcels may be put up for sale at future oral and online Internet auctions without additional legal notice.

Upon publication of this NORA and until the completion of the sale, the BLM is no longer accepting land use applications affecting any parcel identified for sale, including parcels that have been published in a previous NORA. However, land use applications may be considered after completion of the sale for parcels that are not sold through oral or online Internet auction procedures provided the authorization will not adversely affect the marketability or value of the parcel.

In order to determine the value, through appraisal, of the parcels of land proposed to be sold, certain assumptions may have been made of the attributes and limitations of the lands and potential effects of local regulations and policies on potential future land uses. Through publication of this NORA, the Bureau of Land Management gives notice that these assumptions may not be endorsed or approved by units of local government. It is the buyer's responsibility to be aware of all applicable Federal, State, and local government laws, regulations and policies that may affect the subject lands, including any required dedication of lands for public uses. It is also the buyer's responsibility to be aware of existing or projected use of nearby properties. When conveyed out of Federal ownership, the lands will be subject to any applicable laws, regulations, and policies of the applicable local government for proposed future uses. It will be the responsibility of the purchaser to be aware of those laws, regulations, and policies, and to seek any required local approvals for future uses. Buyers should also make themselves aware of any Federal or State law or regulation that may impact the future use of the property. Any land lacking access from a public road or highway will be conveyed as such, and future access acquisition will be the responsibility of the buyer.

The SNPLMA parcels proposed for sale were analyzed in the “Las Vegas Land Disposal Boundary Environmental Impact Statement,” approved December 23, 2004, which is available for public review at the BLM LVFO. Twenty-six parcels being offered were previously analyzed through EAs and approved for sale. Copies of the applicable EAs for N-78190, N-79698, N-79699, N-80681 through N-80684SB, N-80690, N-80692, N-80719, N-80730 through N-80736, N-80739, N-81906 through N-81909, N-81951, N-81969, N-81970 and N-81978 are available for review upon request at the BLM LVFO. The BLM LVFO sales team will assist with identifying the legal description corresponding to each sale parcel serial number. The remaining five parcels are analyzed in an EA (NV-2007-201) for this sale, which tiers to the EIS approved December 23, 2004. Upon publication of this NORA, this EA is available for public review and comment at the BLM LVFO. BLM will be accepting public comment on EA (NV-2007-201) for the 5 parcels for 45 days after publication of this Notice of Realty Action in the Federal Register.

Other information concerning the sale, including the appraisals, reservations, sale procedures and conditions, CERCLA and other environmental documents will be available for review at the BLM LVFO, or by calling (702) 515-5000 and asking to speak to a member of the sales team. Most of this information will also be available on the Internet at: http://propertydisposal.gsa.gov.

Public Comments

The general public and interested parties may submit written comments regarding the proposed sale or the specified EA (NV-2007-201) to the Field Manager, BLM LVFO, up to October 5, 2007. Only written comments submitted by postal service or overnight mail to the Field Manager, BLM LVFO will be considered properly filed. E-mail, facsimile or telephone comments will not be considered as properly filed.

Before including your address, phone number, e-mail address, or other personal identifying information in your comment, you should be aware that your entire comment—including your personal identifying information—may be made publicly available at any time. While you can ask us in your comment to withhold your personal identifying information from public review, we cannot guarantee that we will be able to do so.

(Authority: 43 CFR 2711.1-2)

Angie Lara,
Acting Field Manager.

[FR Doc. E7-16438 Filed 8-20-07; 8:45 am]

BILLING CODE 4310-HC-P